DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1-Motor vehicle, 2-Rail freight, 3-Cargo vessel, 4-Cargo aircraft only, 5-Passenger-carrying aircraft.

DATES: Comments must be received on or before January 8, 2021.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with Part 107 of the Federal hazardous materials transportation law (49 U.S.C. 5117(b); 49 CFR 1.53(b)).

Issued in Washington, DC, on December 1, 2020.
Donald P. Burger,
Chief, General Approvals and Permits Branch.

Special Permits Data
Application No. | Applicant | Regulation(s) affected | Nature of the special permits thereof
21139-N | KULR Technology Corporation | 172.200, 172.700(a) | To authorize the transportation in commerce of lithium batteries with limited relief from the shipping papers and training required in 49 CFR Subparts C and H of Part 172 of the U.S. HMR when shipped in a thermal containment packaging manufactured by KULR for recycling. (modes 1, 2)
21140-N | Philips Medical Systems MR, Inc | 172.101(j) | To authorize the transportation of MRI machines that contain compressed helium in non-specification pressure vessels. (modes 1, 2, 3, 4, 5)
21141-N | Pollution Control Inc | 172.320, 173.56(b) | To authorize the transportation in commerce, for the purpose of disposal only, of certain waste energetic substances and/or articles classed as Division 1.1D, subject to the packaging and special provisions prescribed herein. (mode 1)
21142-N | Atlas Air, Inc | 172.101(j), 172.204(c)(3), 173.27(b)(2), 173.27(b)(3) | To authorize the transportation in commerce of explosives forbidden aboard cargo-only aircraft by cargo-only aircraft. (mode 4)
21143-N | Tradewater LLC | 172.700(a), 173.306(a) | To authorize the transportation in commerce of refrigerant gases in DOT 2Q receptacles as limited quantities by motor vehicle and rail without requiring training in accordance with Part 172 subpart H. (modes 1, 2)
21144-N | Consolidated Nuclear Security LLC | 173.56(b) | To authorize the transportation in commerce of certain materials containing low quantities of explosive substances without requiring approval in accordance with 173.56(b). (modes 1, 4)
21145-N | Reg Grays Harbor LLC | 173.31(d)(1)(ii) | To authorize the transportation in commerce of tank cars that have been pneumatic positive pressure tested in lieu of visually inspected prior to shipping. (mode 2)
21147-N | IPACKCHEM Group SAS | 173.158(f)(3) | To authorize the manufacture, mark, sale, and use of UN 4G specification packagings for the transport of nitric acid where the primary receptacles are not individually overpacked in tightly closed metal packagings. (modes 1, 2, 3)
21150-N | ZECO, Inc | 172.203(a), 172.302(c), 173.225(h) | To authorize the transportation in commerce of Division 5.2 materials in non-authorized bulk packagings. (modes 1, 2)

[FR Doc. 2020-27019 Filed 12-8-20; 8:45 am]

BILLING CODE 4910-60-P